DEPARTMENT OF COMMERCE

National Oceanic and Atmospheric Administration

[I.D. 082202C]

Endangered and Threatened Species; Take of Anadromous Fish

AGENCY: National Marine Fisheries Service (NMFS), National Oceanic and Atmospheric Administration (NOAA), Commerce.

ACTION: Notice of final determination and discussion of underlying biological analysis.

SUMMARY: Notice is hereby given that NMFS has evaluated the Tribal Resource Management Plan (Tribal Plan) submitted by the Northwest Indian Fisheries Commission (NWIFC), Portland, OR for tribal research and assessment activities pursuant to the protective regulations promulgated for Hood Canal summer-run chum salmon under the Endangered Species Act (ESA). The Tribal Plan specifies the future scientific research and assessment activities that potentially affect listed Hood Canal summer-run chum salmon. This document serves to notify the public that NMFS, by delegated authority from the Secretary of Commerce, has determined that implementing and enforcing the Tribal Plan will not appreciably reduce the likelihood of survival and recovery of the Hood Canal summer-run chum salmon Evolutionarily Significant Unit (ESU). This document also includes a summary of the underlying biological analysis used in the determination (Evaluation).

DATES: The determination of the take limit was made on July 31, 2002.

ADDRESSES: Protected Resources Division, F/NW03, 525 NE Oregon Street, Suite 500, Portland, OR 97232-2737. Copies of the Evaluation are available on the Internet at http://www.nwr.noaa.gov/.

FOR FURTHER INFORMATION CONTACT: Leslie Schaeffer (503-230-5433, fax: 503-230-5435, e-mail: leslie.schaeffer@noaa.gov.

SUPPLEMENTARY INFORMATION: This notice is relevant to the Hood Canal summer-run chum salmon (Oncorhynchus keta) ESU.

Background

The NWIFC submitted a Tribal Plan in cooperation with the Puget Sound Indian Tribes for scientific research and assessment activities within the range of the Hood Canal summer-run chum salmon ESU in the state of Washington. The activities are intended to provide the technical basis for fisheries management and for the conservation and restoration of salmon stocks and their habitat. The Tribal Plan also includes implementation, monitoring, evaluation, enforcement, and reporting procedures designed to ensure the research is consistent with these objectives. The research activities described in the Tribal Plan span a 5 year period beginning on January 1, 2002.

On May 16, 2002, at 67 FR 34907, NMFS published a notice of availability for public review and comment on its Evaluation of how the Tribal Plan addressed the factors in 50 CFR 223.209 (65 FR 42481, July 10, 2000) of the ESA Tribal Plan Limit.

As required by section 223.209 of the ESA Tribal Plan Limit, NMFS must determine whether the Tribal Plan would appreciably reduce the likelihood of survival and recovery of the Hood Canal summer-run chum salmon and other affected threatened ESUs. NMFS must take comments on how the Tribal Plan addresses the factors in section 223.209 in making that determination.

Discussion of the Biological Analysis Underlying the Determination

The Tribal Plan describes tribal research and assessment activities that provide the technical basis for fisheries management and for the conservation and restoration of salmon stocks and their habitat in the Puget Sound area. The need for improved and more quantitative understanding of salmonid freshwater and marine survival motivates much of the current research. Many of the activities are also intended to provide information for the planning, implementation, and monitoring of habitat protection and restoration efforts. Tribal resource management entities cooperate with the Washington Department of Fish and Wildlife and other state and local agencies in many research activities. The Tribal Plan describes only those activities that are principally funded through, and managed by, tribal agencies.

The Tribal Plan is organized into four sections: (1) Spawning escapement surveys, (2) smolt production studies, (3) life history studies, and (4) habitat assessment and monitoring studies. Each section further describes the significance of the research and assessment activities and the sampling methods proposed.

It is NMFS' determination that the research and assessment activities included in the Tribal Plan will not appreciably reduce the likelihood of survival and recovery of the ESU in the wild based on the current status of this ESU. This research-related take is not expected to reach a level that will significantly affect any single chum population in the ESU.

The Tribal Plan contains a section describing a protocol for assuring that the level and extent of take associated with the activities do not reduce the likelihood of survival and recovery of this ESU. The Tribal Plan states that monitoring of take during the course of each activity will determine whether take and mortality are occurring at a level greater than the expected level. The Tribal Plan contains procedures whereby the overall impact of research and assessment activities can be regularly evaluated. Sampling methods and schedules will be altered as necessary to minimize take. Annual reports will include the actual take associated with each activity. NMFS will be informed when take exceeds the projected level for any activity and will be consulted regarding subsequent changes in methodology.

NMFS' Evaluation contains reporting requirements, a modification process should the tribes propose new or modified research, and a reevaluation process the tribes will follow to have the Tribal Plan Limit apply. This information will be used by NMFS and the tribes at least annually or as needed to assess whether impacts to listed fish are as expected, and to revise the Tribal Plan as necessary.

Summary of Comments Received in Response to the Proposed Evaluation and Recommended Determination

NMFS published notification of its evaluation and pending determination on the Tribal Plan for public review and comment on May 16, 2002 (67 FR 34907). The public comment period closed on June 17, 2002. NMFS received no comments concerning this document.

Based on its Evaluation and the fact that no public comments were received, NMFS issued its final determination on the Tribal Plan on July 31, 2002.

Authority

Under section 4(d) of the ESA, NMFS, by delegated authority from the Secretary of Commerce, is required to adopt such regulations as it deems necessary and advisable for the conservation of the species listed as threatened. The ESA Tribal Plan Limit (65 FR 42481, July 10, 2000) states that the ESA section 9 take prohibitions will not apply to Tribal Plans provided NMFS determines that implementation of such Tribal Plans will not appreciably reduce the likelihood of survival and recovery of the listed salmonids.

Dated: September 9, 2002.
Chris Mobley,
Acting Chief, Endangered Species Division, Office of Protected Resources, National Marine Fisheries Service.

[FR Doc. 02-23401 Filed 9-12-02; 8:45 am]

BILLING CODE 3510-22-S